DEPARTMENT OF ENERGY

Federal Energy Regulatory Commission

[Project No. 2175-014]

Southern California Edison Company; Notice of Application Ready for Environmental Analysis and Soliciting Comments, and Recommendations, Final Terms and Conditions, and Prescriptions

January 8, 2008.

Take notice that the following hydroelectric application has been filed with the Commission and is available for public inspection.

a. Type of Application: New License for Major Project-Existing Dam.

b. Project No.: P-2175-014.

c. Date Filed: February 23, 2007.

d. Applicant: Southern California Edison Company.

e. Name of Project: Big Creek Nos. 1 and 2 Hydroelectric Power Project.

f. Location: In Fresno County, California, and within the Sierra National Forest. The project is situated along Big Creek, a tributary to the San Joaquin River. The project affects 1,877.96 acres of federal land administered by the Sierra National Forest.

g. Filed Pursuant to: Federal Power Act 16 U.S.C. 791 (a)-825(r)

h. Applicant Contact: Russ W. Krieger, Vice President, Power Production, Southern California Edison Company, 300 North Lone Hill Ave., San Dimas, California 91773. Phone: (909) 394-8667.

i. FERC Contact: Ken Hogan at (202) 502-8434, or e-mail: Kenneth.Hogan@ferc.gov.

j. Deadline for filing comments, and recommendations, final terms and conditions, and prescriptions is 60 days from the issuance date of this notice; reply comments are due 105 days from the issuance date of this notice.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, final terms and conditions, and prescriptions may be filed electronically via the Internet in lieu of paper. The Commission strongly encourages electronic filings. See 18 CFR 385.2001(a)(1)(iii) and the instructions on the Commission's Web site (http://www.ferc.gov) under the “e-Filing” link.

k. This application has been accepted for filing and is ready for environmental analysis at this time.

l. Description of Project: The existing Big Creek Nos. 1 and 2 Hydroelectric Power Project consists of two powerhouses, four major dams forming one major reservoir, one moderate dam and impoundment, three small diversions, and three water conveyance systems. The project would have an average annual generation of 657,072 megawatt-hours.

• Powerhouses (i) Powerhouse No. 1 with four turbine/generator units and a total dependable operating capacity of about 82.9 MW; and (ii) Powerhouse No. 2, with four turbine/generator units and a total dependable operating capacity of about 67.1 MW.

• Major dams and reservoirs (i) Dams 1, 2, 3, and 3a, which form Huntington Lake, with a capacity of about 89,166 ac-ft, at an elevation of about 6,950 ft above mean sea level (msl).

• Moderate dam (i) Dam 4, which forms Dam 4 Impoundment (Powerhouse 2 Forebay), with a capacity of about 60 ac-ft, at an elevation of about 4,810 ft above msl.

• Small diversions (i) Balsam Creek Diversion, with a usable capacity of less than 1 ac-ft, at an elevation of about 4,880 ft above msl; (ii) Ely Creek Diversion, with a usable capacity of less than 1 ac-ft, at an elevation of about 4,844 ft above msl; and (iii) Adit 8 Diversion, with a usable capacity of less than 1 ac-ft, at an elevation of about 4,825 ft above msl.

• Water conveyance systems (i) Tunnel No. 1, about 2 miles long, conveys water from Huntington Lake through an 84-inch diameter pipe to Big Creek Powerhouse No. 1.; (ii) Tunnel No. 2, approximately 4.1 miles long, conveys water from the Dam 4 impoundment just downstream of Powerhouse 1 to Big Creek Powerhouse No. 2. Water from Ely and Balsam Creek diversions also enter into Tunnel No. 2 between the forebay and powerhouse; and (iii) The Shoo Fly, conveys water from Shaver Lake.

• (FERC Project No. 67) through Tunnel 5 and into Tunnel 2 leading to Powerhouse No. 2. The Shoo fly was used during the construction of Shaver Lake Dam and Powerhouse No. 2A to keep water off the dam and to get more generation from Powerhouse No. 2. Although not currently in use, the Shoo fly Complex gives SCE the flexibility to divert water from Shaver Lake to Powerhouse No. 2, if required.

m. A copy of the application is available for review at the Commission in the Public Reference Room or may be viewed on the Commission's Web site at http://www.ferc.gov using the “eLibrary” link. Enter the docket number excluding the three digits in the docket number field to access the document. For assistance, please contact FERC Online Support at FERCOnlineSupport@ferc.gov or toll free at (866) 208-3676, or for TTY, contact (202) 502-8659. A copy is also available for inspection and reproduction at the address in item h above.

All filings must (1) bear in all capital letters the title “COMMENTS,” “REPLY COMMENTS,” “RECOMMENDATIONS,” “FINAL TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, final terms and conditions, or prescriptions must set forth their evidentiary basis and otherwise comply with the requirements of 18 CFR 4.34(b). Agencies may obtain copies of the application directly from the applicant. Each filing must be accompanied by proof of service on all persons listed in the service list prepared by the Commission in this proceeding, in accordance with 18 CFR 4.34(b) and 385.2010.

You may also register online at http://www.ferc.gov/docs-filing/esubscription.asp to be notified via e-mail of new filings and issuances related to this or other pending projects. For assistance, contact FERC Online Support.

n. A license applicant must file no later than 60 days following the date of issuance of this notice: (1) a copy of the water quality certification; (2) a copy of the request for certification, including proof of the date on which the certifying agency received the request; or (3) evidence of waiver of water quality certification.

o. Procedural schedule: The application will be processed according to the following Hydro Licensing Schedule. Revisions to the schedule will be made if the Commission determines it necessary to do so:

Milestone | Tentative date
Comments, recommendations, final terms and conditions, and prescriptions due | March 8, 2008.
Reply comments due from applicant | April 22, 2008.
Notice of the availability of the draft EIS | September 2008.
Comments on draft EIS due | November 2008.
Notice of the availability of the final EIS | March 2009.

Kimberly D. Bose,
Secretary.

[FR Doc. E8-508 Filed 1-14-08; 8:45 am]

BILLING CODE 6717-01-P